DEPARTMENT OF HEALTH AND HUMAN SERVICES

Substance Abuse and Mental Health Services Administration

Fiscal Year (FY) 2012 Funding Opportunity

AGENCY: Substance Abuse and Mental Health Services Administration, HHS.

ACTION: Notice of intent to award a Single Source Grant to the Education Development Center, Inc., Waltham, Massachusetts.

SUMMARY: This notice is to inform the public that the Substance Abuse and Mental Health Services Administration (SAMHSA) intends to award approximately $485,780 (total costs) per year for one year to the Education Development Center, Inc. Waltham, Massachusetts. This is not a formal request for applications. Assistance will be provided only to the Education Development Center, Inc. based on the receipt of a satisfactory application that is approved by an independent review group.

Funding Opportunity Title: SM-12-012.

Catalog Of Federal Domestic Assistance (CFDA) Number: 93.243

Authority: Section 520A of the Public Health Service Act, as amended.

Justification: The purpose of the Technical Assistance Center for Mental Health Promotion and Youth Violence Prevention Center (TA Center) is to support the federally funded Safe Schools/Healthy Students (SS/HS) and Linking Actions for Unmet Needs in Children's Health (Project LAUNCH) grant programs.

The Safe Schools/Healthy Students grant program provides funds to local educational agencies to plan, implement, evaluate and sustain a comprehensive plan of programs, activities, services and curricula to foster resilience, promote mental health, prevent substance abuse, youth violence, and mental and behavioral disorders. The SS/HS program is grounded in the belief that people's lives can be enhanced through effective interventions that foster well-being and resilience at the individual, family and community levels. Structurally, the SS/HS program brings together representatives from many diverse stakeholder groups seeking cooperation from an array of public health, mental health, education, law enforcement, justice and social service systems, as well as families and youth, to work towards the mutual goals of promoting safety, well-being, and healthy development.

The purpose of this supplemental funding is to expand and enhance current grant activities by broadening the current focus to bring lessons learned to scale. The TA Center will engage local, state, and Federal agencies, through collaborative partnerships, to strengthen the mental health promotion, mental illness prevention, and substance abuse prevention efforts across the country.

Eligibility for this funding opportunity is limited to the Education Development Center, Inc. As the current grantee for the Technical Assistance Center for Mental Health Promotion and Youth Violence, Education Development Center, Inc. has the infrastructure already in place to immediately begin to implement the activities under the this supplemental funding, thereby serving to maximize efficiencies created under the current services infrastructure.

Contact: Cathy Friedman, M.A., Substance Abuse and Mental Health Services Administration, 1 Choke Cherry Road, Room 8-1097, Rockville, MD 20857; Email: Cathy.Friedman@samhsa.hhs.gov.

Cathy Friedman,
Public Health Analyst, SAMHSA.

[FR Doc. 2012-23817 Filed 9-26-12; 8:45 am]

BILLING CODE 4162-20-P